DEPARTMENT OF THE INTERIOR

National Park Service

[NPS-WASO-BSD-CONC-20037; PPWOBSADC0, PPMVSCS1Y.Y00000 (199), OMB Control Number 1024-0268]

Agency Information Collection Activities; Commercial Use Authorizations

AGENCY: National Park Service, Interior.

ACTION: Notice of Information Collection; request for comment.

SUMMARY: In accordance with the Paperwork Reduction Act of 1995, we, the National Park Service (NPS) are proposing to renew an information collection.

DATES: Interested persons are invited to submit comments on or before July 29, 2019.

ADDRESSES: Send your comments on this information collection request (ICR) by mail to Phadrea Ponds, Acting NPS Information Collection Clearance Officer, 1201 Oakridge Drive Fort Collins, CO 80525; or by email at phadrea_ponds@nps.gov; or by telephone at 970-267-7231. Please reference OMB Control Number 1024-0268 in the subject line of your comments.

FOR FURTHER INFORMATION CONTACT: To request additional information about this ICR by mail contact Samantha Towery, National Park Service, 12795 West Alameda Parkway, Lakewood, CO 80228; or by email at Samantha_Towery@nps.gov; or by telephone at 303-987-6908. Please reference OMB Control Number 1024-0268 in the subject line of your comments.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The purpose of this information collection is to assist the NPS in managing the Commercial Use Authorization Program. Conducting commercial operations in a unit of the National Park System without a contract, permit, commercial use authorization, or some other written agreement is prohibited. Section 418, Public Law 105-391 (54 U.S.C. 101925) gives the Secretary of the Interior the authority to authorize a private person, corporation, or other entity to provide services to visitors in units of the National Park System through a Commercial Use Authorization (CUA). Such authorizations are not considered concession contracts. We authorize commercial operations that originate and operate entirely within a park; commercial operations that provide services originating and terminating outside of the park boundaries; organized children's camps, outdoor clubs, and nonprofit institutions; and other uses as the Secretary determines appropriate. The commercial operations include a range of services, such as mountain climbing guides, boat repair services, transportation services and tours, canoe livery operations, hunting guides, retail sales, equipment rentals, catering services, and dozens of other visitor services. Section 418 limits CUAs to:

• Commercial operations with annual gross receipts of not more than $25,000 resulting from services originating and provided solely within a unit of the National Park System;

• Incidental use of resources of the unit by commercial operations which provide services originating and terminating outside of the boundaries of the unit; or

• Uses by organized children's camps, outdoor clubs and nonprofit institutions (including back country use) and such other uses as the Secretary determines appropriate.

We collect information on the CUA Application (Form 10-550), the CUA Annual Report (Form 10-660), and CUA Monthly Report (Form 10-660A). We use the information from these forms to:

• Manage the program and operations.

• Determine the qualifications and abilities of the commercial operators to provide a high quality, safe, and enjoyable experience for park visitors.

• Determine the impact on the park's natural and cultural resources.

• Manage the use and impact of multiple operators.

The information requested will allow the NPS to evaluate requests for a commercial use authorization and determine the suitability of the applicants to safely and effectively provide an appropriate service to the visiting public. It will also enable the NPS to manage the activity in a manner that protects the natural and cultural resources and the park visitor. Management includes, but is not limited to, managing the number of permits issued, determining the location and time that the activity occurs, and requiring the appropriate visitor protections including insurance, equipment, training, and procedures.

Regulations resulting in information collection required for a Commercial Use Authorization include: 36 CFR 1.6—Permits; 36 CFR 2—Resource Protection, Public Use and Recreation; 36 CFR 5—Commercial and Private Operations; and 36 CFR 7—Special Regulations; 36 CFR 13—National Park System Units in Alaska.

Title of Collection: Commercial Use Authorizations.

OMB Control Number: 1024-0268.

Form Number: 10-550 Commercial Use Authorization Application and Instructions; 10-660 Commercial Use Authorization Annual Report and Instructions; and 10-660A Commercial Use Authorization Monthly Report and Instructions.

Type of Review: Extension of a currently approved collection.

Respondents/Affected Public: Individuals or small businesses that wish to provide commercial services to visitors in areas of the National Park System.

Respondent's Obligation: Required to Obtain or Retain a Benefit.

Frequency of Collection: On occasion.

Total Estimated Annual Nonhour Burden Cost: $590,000 ($100 × 5,900 Forms 10-550, “Commercial Use Authorization Application and Instructions” per year).

| Estimated number of annual respondents | Estimated number of annual responses | Completion time per response (hours) | Estimated total annual burden hours
Form 10-660 Commercial Use Authorization Application and Instructions | 5,900 | 5,900 | 2.5 | 14,750
Form 10-660 Commercial Use Authorization Annual Report and Instructions | 5,900 | 5,900 | 1.25 | 7,375
Form 10-660 A Commercial Use Authorization Monthly Report and Instructions | 5,900 | 53,100 | .75 | 39,825
Totals | 17,000 | 64,900 |  | 61,950

An agency may not conduct or sponsor and a person is not required to respond to a collection of information unless it displays a currently valid OMB control number.

The authority for this action is the Paperwork Reduction Act of 1995 (44 U.S.C. 3501 et seq.).

Phadrea Ponds,
Acting Information Collection Clearance Officer, National Park Service.

[FR Doc. 2019-11066 Filed 5-24-19; 8:45 am]

BILLING CODE 4312-52-P